DEPARTMENT OF TRANSPORTATION

Federal Railroad Administration

[Docket Number FRA-2006-24646]

Union Pacific Railroad Company; Notice of Public Hearing and Extension of Comment Period

The Union Pacific Railroad Company (UP) has petitioned the Federal Railroad Administration (FRA) seeking relief from the requirements of the Rules, Standards and Instructions found in Title 49 Code of Federal Regulations (CFR) Section 236.586, Daily or after-trip test. Specifically, UP is seeking to change the administration of the first sentence in paragraph (a) from “intervals of not more than 2 months” to “intervals of not more than 92 days” for all cab signal devices on locomotives operated by UP. This waiver application is identified as Docket Number FRA-2006-24646.

FRA issued a public notice seeking comments from interested parties. After examining the carrier's proposal and the submitted letters of protest from interested parties, FRA has determined that a public hearing is necessary before a final decision will be made on this proposal. Accordingly, a public hearing is hereby set for 9 a.m. on Thursday, May 31, 2007, at the Holiday Inn Express Hotel & Suites, 300 Holiday Frontage Road, in North Platte, Nebraska 69101. Interested parties are invited to present oral statements at the hearing.

The hearing will be informal and will be conducted by a representative designated by FRA in accordance with Rule 25 of the FRA Rules of Practice (49 CFR Section 211.25). The hearing will be a non-adversary proceeding and, as such, there will be no cross-examination of persons presenting statements. The FRA representative will make an opening statement outlining the scope of the hearing. After all initial statements have been completed, persons wishing to make brief rebuttal statements will be given the opportunity to do so in the same order in which they made their initial statements. Any additional procedures, if necessary, will be announced at the hearing.

FRA is also extending the comment period to June 10, 2007. If information received at the public hearing warrants the need to extend the comment period further, a separate notice will be published indicating such extension.

All communications concerning these proceedings should identify the appropriate docket number (e.g.), Docket Number FRA-2006-24646) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on April 12, 2007.
Michael J. Logue,
Deputy Associate of Administrator for Safety Compliance and Program Implementation.

[FR Doc. E7-7301 Filed 4-17-07; 8:45 am]

BILLING CODE 4910-06-P